DEPARTMENT OF THE INTERIOR

National Park Service

[NPS-WASO-NRNHL-DTS#-34275; PPWOCRADI0, PCU00RP14.R50000]

National Register of Historic Places; Notification of Pending Nominations and Related Actions

AGENCY: National Park Service, Interior.

ACTION: Notice.

SUMMARY: The National Park Service is soliciting electronic comments on the significance of properties nominated before July 23, 2022, for listing or related actions in the National Register of Historic Places.

DATES: Comments should be submitted electronically by August 23, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 23, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Wranglers Roost, 2500 West New River Rd., Phoenix, SG100008046

COLORADO

Fremont County

Florence High School, 215 Maple Ave., Florence, SG100008040

GEORGIA

Oglethorpe County

Maxeys Historic District, Area surrounding GA 77 (Main St. or Union Point Rd.), Maxeys, SG100008047

HAWAII

Honolulu County

Naval Aviation Supply Depot Personnel Camp Quonset Hut 33, 955 Kamehameha Hwy. (TMK 9-7-023:0), Pearl City, SG100008051

INDIANA

Floyd County

Frederick, Charles and Elletha, House, 6954 US 150, Floyds Knobs vicinity, SG100008053

New Albany-Floyd County Public Library, 180 West Spring St., New Albany, SG100008054

Hartman, Louis and Anna K. Kunz, House, 911 State St., New Albany, SG100008059

Jennings County

James Covered Bridge, Cty. Rd. 650S over Graham Cr. approx. ½ mi. east of IN 3, Lovett vicinity, SG100008061

Scipio Covered Bridge, Cty. Rd. 575W over Sand Cr. approx. 200 ft. southeast of Cty. Rd. 700N crossing point, Scipio, SG100008062

Marion County

Indianapolis Public Library Branch No. 1, 3101 Clifton St., Indianapolis, SG100008055

Tobey-Normington House, (Residential Planning and Development in Indiana, 1940-1973 MPS), 6090 Fall Creek Rd., Indianapolis, MP100008057

Stutz Motor Car Company Factory, 1060 North Capitol Ave. and 217 West 10th St., Indianapolis, SG100008060

Montgomery County

Durham, George and Sarah, House, 215 West Main St., Crawfordsville, SG100008056

Warrick County

Pyeatt's Mill Iron Bridge, Boner Rd. crossing of Little Pigeon Cr., Hatfield vicinity, SG100008058

NEW JERSEY

Morris County

Arch Bridge from the Boonton Ironworks, Grace Lord Park, Boonton, SG100008042

Normandy Park Historic District (Boundary Increase), 6 Normandy Heights Rd., Morris Township vicinity, BC100008043

Lafayette School, 79 Mill Rd., Roxbury Township, SG100008044

NEW YORK

Albany County

Mark House, 99 Johnson Rd., Colonie, SG100008066

OHIO

Franklin County

West High School, 120 South Central Ave., Columbus, SG100008068

Hamilton County

King Records Studio Buildings, 1536-1540 Brewster Ave., Cincinnati, SG100008067

Scioto County

Lock 55, Ohio & Erie Canal Southern Descent Historic District (Boundary Increase), Old River Rd. at Slab Run, Portsmouth vicinity, BC100008049

Wayne County

Smucker, J.M., House, 708 North Main St., Orrville, SG100008048

PUERTO RICO

Maunabo Municipality

Casa Alcaldia de Maunabo, Calle Santiago Iglesias #8, Maunabo, SG100008050

Ponce Municipality

Ponce Public School 1913, (Early Twentieth Century Schools in Puerto Rico TR), Calle Concordia, Ponce, MP100008052

Additional documentation has been received for the following resource:

ARIZONA

Maricopa County

Pierson Place (Additional Documentation), (Residential Subdivisions and Architecture in Central Phoenix, 1870-1963, MPS), 304 West Hazelwood St., Phoenix, AD100004344

Nomination submitted by Federal Preservation Officer:

The State Historic Preservation Officer reviewed the following nomination and responded to the Federal Preservation Officer within 45 days of receipt of the nomination and supports listing the property in the National Register of Historic Places.

MONTANA

Flathead County

Ford Schoolhouse, North Fork Flathead Rd. just over nine miles northwest of Polebridge, Polebridge vicinity, SG100008041

Authority: Section 60.13 of 36 CFR part 60.

Dated: July 26, 2022.
Sherry A. Frear,
Chief, National Register of Historic Places/National Historic Landmarks Program.

[FR Doc. 2022-16914 Filed 8-5-22; 8:45 am]

BILLING CODE 4312-52-P